NATIONAL AERONAUTICS AND SPACE ADMINISTRATION

14 CFR Part 1260

RIN 2700-AD24

NASA Grant and Cooperative Agreement Handbook—Patent Rights and Rights in Data, CSC Programs

AGENCY: National Aeronautics and Space Administration.

ACTION: Final rule.

SUMMARY: This final rule amends 14 CFR 1260.20(e), “Provisions,” and the introductory paragraph to Exhibit E (Commercial Space Centers Program Grants/Cooperative Agreements Intellectual Property) to clarify that the “Patent Rights” and “Rights in Data—CSC Program” special conditions in Exhibit E are to be used in all grants or cooperative agreements awarded to Commercial Space Centers (CSC) under the Space Development and Commercial Research (SDCR) Program instead of (rather than in addition to) the general conditions for Patent Rights (§ 1260.28) and Rights in Data (§ 1260.30).

In addition, this final rule makes an administrative change to correct a cross-reference error in paragraph (e) of the general condition entitled, “Patent Rights,” § 1260.28.

DATES: Effective Date: May 18, 2006.

FOR FURTHER INFORMATION CONTACT: Paul Brundage, NASA Headquarters, Contract Management Division, Washington, DC, (202) 358-0481, e-mail: paul.d.brundage@nasa.gov.

SUPPLEMENTARY INFORMATION:

A. Background

The Grant Handbook at § 1260.20(e) requires use of Exhibit E, Special Conditions for Cooperative Agreements between NASA and the Commercial Space Centers. However, Exhibit E also requires use of the general conditions which include § 1260.28, Patent Rights, and § 1260.30, Rights in Data. This coverage may have the unintentional consequence of requiring use of both the Exhibit E special conditions and the general conditions. In such case, the Exhibit E special conditions would take precedence since they are structured as stand-alone special conditions that supersede the general conditions. However, to avoid any potential misinterpretation or confusion, this change clarifies that the special conditions in Exhibit E replace the general conditions for patent and data rights.

B. Regulatory Flexibility Act

NASA certifies that this final rule will not have a significant economic impact on a substantial number of small entities within the meaning of the Regulatory Flexibility Act, 5 U.S.C. 601 et seq., because the changes are merely clarifying existing coverage in the Grant Handbook.

C. Paperwork Reduction Act

The Paperwork Reduction Act does not apply because this rule does not impose any new recordkeeping or information collection requirements, or collection of information from offerors, contractors, or members of the public that require the approval of the Office of Management and Budget under 44 U.S.C. 3501 et seq.

List of Subjects in 14 CFR Part 1260

Grant programs—science and technology.

Tom Luedtke,
Assistant Administrator for Procurement.

Accordingly, 14 CFR part 1260 is amended as follows:

1. The authority citation for 14 CFR part 1260 continues to read as follows:

Authority: 42 U.S.C. 2473(c)(1), Pub. L. 97-258, 96 Stat. 1003 (31 U.S.C. 6301 et seq.), and OMB Circular A-110.

PART 1260—GRANTS AND COOPERATIVE AGREEMENTS

2. Amend § 1260.20 by revising paragraph (e) to read as follows:

§ 1260.20 Provisions.

* * * * *

(e) Grants or cooperative agreements awarded by NASA to the Commercial Space Centers under the Space Development and Commercial Research (SDCR) Program require special conditions in lieu of those set forth at §§ 1260.28, Patent Rights, and 1260.30, Rights in Data. SDCR Special Conditions are required to be included in full text for all SDCR Grants and Cooperative Agreements (Exhibit E to subpart A of this part 1260). Changes or additions to these Special Conditions must be approved by the Office of Space Utilization and Product Development before the award of the grant or cooperative agreement. Requests for changes or additions are to be coordinated through the Office of Procurement, Program Operations Division.

* * * * *

3. Amend § 1260.28 by revising the date and paragraph (e) to read as follows:

§ 1260.28 Patent rights.

Patent Rights

May 2006

* * * * *

(e) The NASA implementing regulation for paragraph (g)(2) of the “Patent Rights” clause is at 48 CFR 1827.304-4(a)(i).

* * * * *

4. Amend Exhibit E to subpart A of part 1260 by revising the introductory paragraph to read as follows:

The following Space Development and Commercial Research (SDCR) Special Conditions replace General Conditions §§ 1260.28, Patent Rights, and 1260.30, Rights in Data. Insert these Special Conditions in full text in all SDCR Grants and Cooperative Agreements in addition to the General Conditions in the NASA Grant and Cooperative Agreement Handbook (except for §§ 1260.28 and 1260.30). Any changes or additions to these Special Conditions must be approved by the Office of Procurement, NASA Headquarters, Procurement Operations Division, before award of the agreement.

* * * * *

[FR Doc. 06-4493 Filed 5-17-06; 8:45 am]

BILLING CODE 7510-01-P